DEPARTMENT OF THE INTERIOR

National Park Service

General Management Plan, Final Environmental Impact Statement, Colorado National Monument, CO

AGENCY: National Park Service, Department of the Interior.

ACTION: Notice of availability of the Final Environmental Impact Statement for the General Management Plan, Colorado National Monument.

SUMMARY: Pursuant to National Environmental Policy Act of 1969, 42 U.S.C. 4332(C), the National Park Service announces the availability of a Final Environmental Impact Statement for the General Management Plan, Colorado National Monument, Colorado.

DATES: The National Park Service will execute a Record of Decision (ROD) no sooner than 30 days following publication by the Environmental Protection Agency of the Notice of Availability of the Final Environmental Impact Statement.

ADDRESSES: Information will be available for public inspection in the office of the Superintendent, and at the following locations:

Colorado National Monument Visitor Center/Headquarters, Bruce Noble, Superintendent, 7 miles east of Fruita on Rim Rock Drive, Fruita, CO 81521-0001, Tel: (970) 858-3617, ext. 300.

Fruita Branch Mesa County Public Library District, 324 East Aspen Avenue, Fruita, CO 81521, Tel. (970) 858-7703.

Mesa County Central Library, 530 Grand Avenue, Grand Junction, Co 81502-5019, Tel. (970) 243-4442.

Internet Address: http://planning.nps.gov/plans.cfm.

FOR FURTHER INFORMATION CONTACT: Contact Superintendent Bruce Noble, Colorado National Monument, Fruita, CO 81521-0001; Tel: (970) 858-3617, ext. 300; FAX: (970) 858-0372; e-mail: bruce noble@nps.gov.

Dated: April 27, 2005.
Michael D. Snyder,
Acting Director, Intermountain Region, National Park Service.

[FR Doc. 05-11142 Filed 6-3-05; 8:45 am]

BILLING CODE 4312-CP-M